Presidential Determination No. 2019-03 of October 5, 2018

Presidential Determination Pursuant to Section 303 of the Defense Production Act of 1950, as Amended

Memorandum for the Secretary of Defense

By the authority vested in me as President by the Constitution and the laws of the United States of America, including section 303 of the Defense Production Act of 1950, as amended (the “Act”) (50 U.S.C. 4533), I hereby determine, pursuant to section 303(a)(5) of the Act, that the development of and the purchase of equipment and materials needed for Lithium Sea-Water batteries are essential to the national defense.

Without Presidential action under section 303 of the Act, United States industry cannot reasonably be expected to provide the capability for the production of Lithium Sea-Water batteries adequately and in a timely manner. Further, purchases, purchase commitments, or other action pursuant to section 303 of the Act are the most cost effective, expedient, and practical alternative method for meeting the need for this critical capability.

You are authorized and directed to publish this memorandum in the Federal Register.

THE WHITE HOUSE,

Washington, October 5, 2018

[FR Doc. 2018-22340

Filed 10-10-18; 11:15 am]

Billing code 5001-06-P